DEPARTMENT OF HEALTH AND HUMAN SERVICES

Administration for Children and Families

[Program Announcement No. ACYF/CB-2003-01]

Announcement of the Availability of Financial Assistance and Request for Applications to Support Adoption Opportunities Demonstration Activities, Child Abuse and Neglect Discretionary Activities, Child Welfare Training Project Activities, Promoting Safe and Stable Families Activities

AGENCY: Administration on Children, Youth and Families (ACYF), ACF, DHHS.

ACTION: Notice.

Statutory Authority and Catalog of Federal Domestic Assistance (CFDA) Numbers

Adoption Opportunities: Title II of the Child Abuse Prevention and Treatment and Adoption Reform Act of 1978, as amended, (42 U.S.C. 5111) CFDA: 93.652.

Child Abuse and Neglect: Section 104 of the Child Abuse Prevention and Treatment Act, as amended (42 U.S.C. 5101 et seq.) CFDA: 93.670.

Child Welfare Training: Section 426 in title IV-B, subpart 1, of the Social Security Act, as amended, (42 U.S.C. 626) CFDA: 93.648.

Promoting Safe and Stable Families: Section 430 in title IV-B, subpart 2, of the Social Security Act, as amended, (42 U.S.C. 629) CFDA: 93.556.

SUMMARY: The Children's Bureau (CB) within the Administration on Children, Youth and Families (ACYF), Administration for Children and Families (ACF) announces the availability of fiscal year (FY) 2003 funds for competing new activities under the Adoption Opportunities Program, the Child Abuse Prevention and Treatment Act (CAPTA), the Child Welfare Training Program, and the Promoting Safe and Stable Families Program. Funds from the Adoption Opportunities Program are designed to provide, among other things, support for demonstration projects that facilitate the elimination of barriers to adoption and provide permanent loving homes for children who would benefit from adoption, particularly children with special needs. Funds from CAPTA support research and demonstration projects on the causes, prevention, and treatment of child abuse and neglect. Funds from the Child Welfare Training Program support grants to public or other non-profit institutions of higher learning for special projects for training personnel for work in the field of child welfare. The Promoting Safe and Stable Families program is intended to prevent the unnecessary separation of children from their families by funding family support, family preservation, time-limited family reunification and adoption promotion and support services as well as research, evaluation and technical assistance relating to such services.

DATES: The closing date for submission of applications is July 25, 2003. Items postmarked after the stated due date will be classified as late. Private, non-profit organizations that apply for funds available through this announcement are encouraged to submit with their applications the optional survey located under “Grant Manuals and Forms” at http://www.acf.hhs.gov/programs/ofs/forms.htm.

Note: The complete program announcement, including all necessary forms, can be downloaded and printed from the Children's Bureau Web site at http://www.acf.dhhs.gov/programs/cb. Hard copies of the complete program announcement may be requested by calling the National Adoption Information Clearinghouse at 1-888-251-0075. The complete program announcement is necessary for any potential applicant.

FOR FURTHER INFORMATION CONTACT: Patricia Campiglia, Children's Bureau, 202-205-8060.

SUPPLEMENTARY INFORMATION:

Priority Areas

2003A. Adoption Opportunities Activities

2003A.1 Adoptive Placements for Children in Foster Care

Eligible Applicants: Eligibility is limited to State social service agencies. In order to support the broadest range of issues and approaches, priority will be given to applicants who have not been funded under this priority in previous years. However, applicants previously funded under this priority area will not be precluded from receiving grants.

Project Duration: The projects will be awarded for a project period of 60 months. The initial grant award will be for a 12-month budget period. The award of continuation funding beyond each 12-month budget period will be subject to the availability of funds, satisfactory progress on the part of each grantee, and a determination that continued funding would be in the best interest of the government.

Federal Share of Project Costs: The maximum Federal share of the project is $350,000 per budget period.

Matching or Cost Sharing Requirement: The grantee must provide at least ten percent of the total approved cost of the project. The total approved cost is the sum of the Federal share and the non-Federal share. Therefore, a project requesting $350,000 per budget period must include a match of at least $38,889 per budget period. The non-Federal share may be cash or in-kind contributions, although applicants are encouraged to meet their match requirements through cash contributions. If approved for funding, grantees will be held accountable for the commitment of non-Federal resources and failure to provide the required amount will result in a disallowance of unmatched Federal funds.

Anticipated Number of Projects to be Funded: It is anticipated that up to eight projects will be funded.

2003A.2: Projects To Improve Recruitment of Adoptive Parents in Rural Communities

Eligible Applicants: States, local government entities, public or private non-profit licensed child welfare or adoption agencies, adoptive family groups and nonprofit organizations, including community and faith-based organizations, with experience working with rural populations and with access to children in foster care. Collaborative efforts and interdisciplinary applications are acceptable; however, applications from collaborations must identify a primary applicant responsible for administering the grant.

Project Duration: The projects will be awarded for a project period of 60 months. The initial grant award will be for a 12-month budget period. The award of continuation funding beyond each 12-month budget period will be subject to the availability of funds, satisfactory progress on the part of each grantee, and a determination that continued funding would be in the best interest of the government.

Federal Share of Project Costs: The maximum Federal share of the project is $400,000 per budget period.

Matching or Cost Sharing Requirement: The grantee must provide at least 10 percent of the total approved cost of the project. The total approved cost is the sum of the Federal share and the non-Federal share. Therefore, a project requesting $400,000 per budget period must include a match of at least $44,444 per budget period. The non-Federal share may be cash or in-kind contributions, although applicants are encouraged to meet their match requirements through cash contributions. If approved for funding, grantees will be held accountable for the commitment of non-Federal resources and failure to provide the required amount will result in a disallowance of unmatched Federal funds.

Anticipated Number of Projects to be Funded: It is anticipated that up to eight projects will be funded.

2003A.3: Developing a National Network of Adoption Advocacy Programs

Eligible Applicants: States, local government entities, public or private nonprofit licensed child welfare or adoption agencies, university (including university-affiliated programs) or adoptive family groups and community-based organizations and nonprofit organizations including community and faith-based organizations with adoption expertise. Eligible applicants must have the capacity to operate and support a national network as well as assist in the development and support of local adoption advocacy programs that are modeled on the One Church, One Child program. Collaborative efforts and interdisciplinary applications are acceptable; however, applications from collaborations must identify a primary applicant responsible for administering the grant.

Project Duration: The project will be awarded for a project period of 60 months. The initial grant award will be for a 12-month budget period. The award of continuation funding beyond each 12-month budget period will be subject to the availability of funds, satisfactory progress on the part of the grantee, and a determination that continued funding would be in the best interest of the government.

Federal Share of Project Costs: The maximum Federal share of the project is $250,000 for the first budget period and $500,000 for each of the subsequent budget periods.

Matching or Cost Sharing Requirement: The grantee must provide at least 10 percent of the total approved cost of the project. The total approved cost is the sum of the Federal share and the non-Federal share. Therefore, a project requesting $250,000 for year one and $500,000 per budget period for years two through five must include a match of at least $27,778 in year one and $55,556 per budget period for years two through five. The non-Federal share may be cash or in-kind contributions, although applicants are encouraged to meet their match requirements through cash contributions. If approved for funding, grantees will be held accountable for the commitment of non-Federal resources and failure to provide the required amount will result in a disallowance of unmatched Federal funds.

Anticipated Number of Projects to be Funded: It is anticipated that one project will be funded.

2003A.4: Administration of the Interstate Compact on Adoption and Medical Assistance (ICAMA)

Eligible Applicants: Any State, local, public and private nonprofit agency or organization, including community and faith-based organizations, or institutions of higher learning with demonstrated expertise in the field of child welfare.

Project Duration: The length of the project period for the grant may not exceed 60 months. The initial grant award will be for a 12-month budget period. The award of continuation funding beyond each 12-month budget period will be subject to the availability of funds, satisfactory progress on the part of each grantee, and a determination that continued funding would be in the best interest of the government.

Federal Share of Project Costs: The grant amount will not exceed $200,000 per budget period.

Matching or Cost Sharing Requirement: The grantee must provide at least ten percent of the total approved cost of the project. The total approved cost is the sum of the Federal share and the non-Federal share. Therefore, a project requesting $200,000 per budget period must include a match of at least $22,222 per budget period. The non-Federal share may be cash or in-kind contributions, although applicants are encouraged to meet their match requirements through cash contributions. If approved for funding, grantees will be held accountable for the commitment of non-Federal resources and failure to provide the required amount will result in a disallowance of unmatched Federal funds.

Anticipated Number of Projects to be Funded: It is anticipated that one project will be funded.

2003B: Child Abuse and Neglect Discretionary Activities

2003B.1: Fellowships for University-Based Doctoral Candidates and Faculty for Investigator-Initiated Research in Child Abuse and Neglect

Eligible Applicants: Public or private non-profit institutions of higher learning on behalf of qualified doctoral candidates in human service disciplines enrolled in the institution and faculty employed by the institution. To be eligible to administer such a grant, the institution must be fully accredited by one of the regional institutional accrediting commissions recognized by the U.S. Secretary of Education and/or the Council on Post-Secondary Accreditation. While an individual is considered to be the beneficiary of the grant support, awards will be made only to eligible institutions on behalf of their qualified candidates.

Project Duration: The length of the projects may not exceed 24 months.

Federal Share of Project Costs: The maximum Federal share of the project is not to exceed $130,000 per academic institution, with a maximum of $25,000 per student and $30,000 for the faculty member. Each application must involve two to four student-candidates and a single faculty member.

Matching or Cost Sharing Requirement: There is no matching requirement. The academic institution, in accepting the award, agrees to waive overhead charges (indirect costs) and pass the entirety of the funds on to students and faculty as fellowships or stipends.

Anticipated Number of Projects to be Funded: It is anticipated that up to seven institutional awards will be funded.

2003B.2: Improving Child Welfare Outcomes Through Systems of Care

Eligible Applicants: State, territory, county or city child welfare agencies and federally recognized Native American Tribes are eligible applicants. No more than one application will be funded from any one State in order to insure geographic distribution of the awards. Collaborative applications are acceptable; however, applications from collaborations must identify a primary applicant responsible for administering the grant.

Project Duration: The projects will be awarded for a period of 60 months. The initial grant award will be for a 12-month budget period. The award of continuation funding beyond each 12-month budget period will be subject to the availability of funds, satisfactory progress on the part of the grantee, and a determination that continued funding would be in the best interest of the government.

Federal Share of Project Costs: The maximum Federal share of the project is up to $500,000.

Matching Requirement: There is no matching requirement.

Anticipated Number of Projects to be Funded: It is anticipated that up to 10 awards will be made.

2003C: Child Welfare Training Project Activities

2003C.1: Professional Education for Public Child Welfare Practitioners:

2003C.1A: Professional Education for Prospective MSW Level Public Child Welfare Staff (Awarding MSW Degree)

2003C.1B: Professional Education for Current Public Child Welfare Agency Staff (Awarding BSW and/or MSW Degree)

2003C.1C: Professional Education for Prospective and Current American Indian and/or Alaskan Native Public Child Welfare Staff who are currently enrolled or plan to enroll in BSW or MSW Social Work Programs (Awarding BSW and/or MSW Degree)

Note: In order to be responsive to a number of unique, professional education needs related to public child welfare practice, this priority area is being subdivided into three subcategories as outlined above. An institution may submit only one application under this priority area and must identify the sub-priority area to which it is responding in the abstract and narrative sections of the application.

Eligible Applicants: Public or non-profit institutions of higher education with accredited social work education programs. Priority will be given to applicants with a strong public child welfare agency/university partnership and/or applicants prepared to re-design their curriculum to maximize student learning opportunities for work in public child welfare agencies. Previously funded applicants under this priority area will not be precluded from receiving a grant.

Project Duration: Sub-priority area 2003C.1A will be awarded for a project period not to exceed 48 months. Sub-priorities 2003C.1B and 2003C.1C will be awarded for a project period not to exceed 60 months. The initial grant award will be for a 12-month budget period. The award of continuation funding beyond each 12-month budget period will be subject to the availability of funds, satisfactory progress on the part of the grantee, and a determination that continued funding would be in the best interest of the government.

Federal Share of Project Costs: The maximum Federal share is not to exceed $75,000 for the 12-month budget period. A traineeship must not exceed $7,500 per student per budget year. A minimum of 75 per cent of the total project funds must be used for traineeships.

Matching or Cost Sharing Requirement: No matching funds are required for the portion of the budget that pays for traineeships. However, grantees must provide a match to equal at least 25 percent of the total cost of grant activities other than traineeships. The total approved cost of these non-traineeship activities is the sum of the ACYF share and the non-Federal share. The non-Federal share may be met by cash or in-kind contributions, although applicants are encouraged to meet their match requirements through a cash contribution. Therefore, a project requesting $75,000 in Federal funds (with $56,250 for traineeships and $18,750 for non-traineeship activities per budget period) must include a match of at least $6,250 (25 percent of the total cost for the non-traineeship activities). Because this is a training grant, indirect costs for these projects shall not exceed 8 percent. Funds from this grant cannot be used to match title IV-E training funds. If approved for funding, grantees will be held accountable for the commitment of non-Federal resources and failure to provide the required amount will result in a disallowance of unmatched Federal funds.

Anticipated Number of Projects to be Funded: It is anticipated that up to 27 projects will be funded: eleven in sub-priority area 2003C.1A, twelve in sub-priority area 2003C.1B and four in sub-priority area 2003C.1C.

2003C.2: Training for Effective Child Welfare Practice in Rural Communities

Eligible Applicants: Public or non-profit institutions of higher education with accredited social work programs or other accredited bachelor- or graduate-level programs leading to a degree relevant to work in child welfare. Under this priority area, only those institutions that have knowledge and experience in training professionals for work in rural communities and have child welfare-related experience in serving rural America would be eligible to apply.

Project Duration: Awards will be made for a project period of 60 months. The initial grant will be for a 12-month budget period. The award of continuation funding beyond each 12-month period will be subject to the availability of funds, satisfactory progress on the part of the grantee, and a determination that continued funding would be in the best interest of the government.

Federal Share of Project Costs: The maximum Federal share of the project is up to $200,000 per budget year.

Matching or Cost Sharing Requirement: The grantee must provide at least 25 percent of the total approved cost of the project. The total approved cost is the sum of the Federal share and the non-Federal share. Therefore, a project requesting $200,000 per budget period must include a match of at least $66,667 per budget period. The non-Federal share may be cash or in-kind contributions, although applicants are encouraged to meet their match requirements through cash contributions. If approved for funding, grantees will be held accountable for the commitment of non-Federal resources and failure to provide the required amount will result in a disallowance of unmatched Federal funds.

Anticipated Number of Projects to be Funded: It is estimated that up to seven projects will be funded.

2003C.3: Developing Models of Effective Child Welfare Staff Recruitment and Retention Training

Eligible Applicants: Public or non-profit institutions of higher education with accredited social work education programs or other accredited bachelor or graduate level programs leading to a degree relevant to work in child welfare.

Project Duration: Awards will be made for a project period of 60 months. The initial grant will be for a 12-month budget period. The award of continuation funding beyond each 12-month period will be subject to the availability of funds, satisfactory progress on the part of the grantee, and a determination that continued funding would be in the best interest of the government.

Federal Share of Project Costs: The maximum Federal share of the project is up to $200,000 per budget year.

Matching or Cost Sharing Requirement: The grantee must provide at least 25 percent of the total approved cost of the project. The total approved cost is the sum of the Federal share and the non-Federal share. Therefore, a project requesting $200,000 per budget period must include a match of at least $66,667 per budget period. The non-Federal share may be cash or in-kind contributions, although applicants are encouraged to meet their match requirements through cash contributions. If approved for funding, grantees will be held accountable for the commitment of non-Federal resources and failure to provide the required amount will result in a disallowance of unmatched Federal funds.

Anticipated Number of Projects to be Funded: It is estimated that up to 13 projects will be funded.

2003C.4: Training for Healthy Marriage and Family Formation

Eligible Applicants: Public or non-profit institutions of higher education with accredited social work programs or other accredited bachelor or graduate level programs leading to a degree relevant to work in child welfare.

Project Duration: Awards will be made for a project period of 60 months. The initial grant will be for a 12-month budget period. The award of continuation funding beyond each 12-month period will be subject to the availability of funds, satisfactory progress on the part of the grantee, and a determination that continued funding would be in the best interest of the government.

Federal Share of Project Costs: The maximum Federal share of the project is up to $200,000 per budget year.

Matching or Cost Sharing Requirement: The grantee must provide at least 25 percent of the total approved cost of the project. The total approved cost is the sum of the Federal share and the non-Federal share. Therefore, a project requesting $200,000 per budget period must include a match of at least $66,667 per budget period. The non-Federal share may be cash or in-kind contributions, although applicants are encouraged to meet their match requirements through cash contributions. If approved for funding, grantees will be held accountable for the commitment of non-Federal resources and failure to provide the required amount will result in a disallowance of unmatched Federal funds.

Anticipated Number of Projects to be Funded: It is estimated that up to eight projects will be funded.

2003C.5: National Evaluation of Child Welfare Training Grants

Eligible Applicants: Public or non-profit institutions of higher education with accredited social work education programs or other accredited bachelor or graduate level programs leading to a degree relevant to work in child welfare. To be eligible, the institution must demonstrate knowledge and skills in the areas of child welfare administration, research, evaluation and curriculum development and implementation.

Project Duration: Awards will be made for a project period of 36 months. The initial grant will be for a 12-month budget period. The award of continuation funding beyond each 12-month period will be subject to the availability of funds, satisfactory progress on the part of the grantee, and a determination that continued funding would be in the best interest of the government.

Federal Share of Project Costs: The maximum Federal share of the project is $350,000 per budget year.

Matching or Cost Sharing Requirement: No match required.

Anticipated Number of Projects to be Funded: It is anticipated that one project will be funded.

2003D: Promoting Safe and Stable Families Activities

2003D.1: Replication of Demonstrated Effective Programs in the Prevention of Child Abuse and Neglect

Eligible Applicants: Public or private non-profit organizations, including community and faith-based organizations, and institutions of higher education. Collaborative efforts and interdisciplinary applications are acceptable; however, applications from collaborations must identify a primary applicant responsible for administering the grant.

Project Duration: The projects will be awarded for a period of 60 months. The initial grant award will be for a 12-month budget period. The award of continuation funding beyond each 12-month budget period will be subject to the availability of funds, satisfactory progress on the part of the grantee, and a determination that continued funding would be in the best interest of the government.

Federal Share of Project Costs: The maximum Federal share of the project is up to $175,000 for the first year and up to $350,000 for each subsequent year.

Matching Requirements: The grantee must provide at least 10 percent of the total approved cost of the project. The total approved cost is the sum of the Federal share and the non-Federal share. Therefore, a project requesting $175,000 for year one and $350,000 per budget period for years two through five must include a match of at least $19,444 in year one and $38,889 per budget period for years two through five. The non-Federal share may be cash or in-kind contributions, although applicants are encouraged to meet their match requirements through cash contributions. If approved for funding, grantees will be held accountable for the commitment of non-Federal resources and failure to provide the required amount will result in a disallowance of unmatched Federal funds.

Anticipated Number of Projects to be Funded: It is anticipated that up to eight projects will be funded.

2003D.2: Evaluations of Existing Child Abuse and Neglect Prevention Programs

Eligible Applicants: Public (State, tribal, or local) or private nonprofit organizations, including community and faith-based organizations, or institutions of higher learning are eligible to apply. Collaborative efforts and interdisciplinary applications are encouraged; however, a primary applicant must be identified.

Project Duration: The projects will be awarded for a period of 36 months. The initial grant award will be for a 12-month budget period. The award of continuation funding beyond each 12-month budget period will be subject to the availability of funds, satisfactory progress on the part of the grantee, and a determination that continued funding would be in the best interest of the government.

Federal Share of Project Costs: The maximum Federal share of the project is $200,000 per budget period.

Matching Requirements: There is no matching requirement.

Anticipated Number of Projects to be Funded: It is anticipated that up to four projects will be funded.

2003D.3: Evaluations of Existing Family Support, Family Preservation, Reunification, or Adoption Promotion and Support Programs

Eligible Applicants: Public (State, tribal, or local) or private nonprofit organizations, including community and faith-based organizations, or institutions of higher learning are eligible to apply. Collaborative efforts and interdisciplinary applications are encouraged; however, a primary applicant must be identified.

Project Duration: The projects will be awarded for a period of 36 months. The initial grant award will be for a 12-month budget period. The award of continuation funding beyond each 12-month budget period will be subject to the availability of funds, satisfactory progress on the part of the grantee, and a determination that continued funding would be in the best interest of the government.

Federal Share of Project Cost: The maximum Federal share of the project is $200,000 per budget period.

Matching Requirements: There is no matching requirement.

Anticipated Number of Projects to be Funded: It is anticipated that up to three projects will be funded.

2003D.4: Projects to Develop Programs to Strengthen Marriages

Eligible Applicants: State child welfare agencies, local (county or community) child welfare or child protective service agencies in partnership with experienced marriage services providers which may be public or nonprofit organizations including community and faith-based organizations. The child welfare agency must be the primary applicant responsible for administering the grant.

Project Duration: The projects will be awarded for a project period of 36 months. The initial grant award will be for a 12-month budget period. The award of continuation funding beyond each 12-month budget period will be subject to the availability of funds, satisfactory progress on the part of each grantee, and a determination that continued funding would be in the best interest of the government.

Federal Share of Project Costs: The maximum Federal share of the project is $200,000 per budget period.

Matching or Cost Sharing Requirement: No match is required.

Anticipated Number of Projects to be Funded: It is anticipated that up to 10 projects will be funded.

Evaluation Criteria

Reviewers will consider the following factors when scoring applications. Applicants, in order to adequately prepare their applications, must refer to the full program announcement for the specific evaluation criteria for each priority area.

Criterion 1: Objectives and Need for Assistance. Applications will be judged on the extent to which they clearly specify the purposes and/or strategies of the proposed project and their relationship to legislative authority and child welfare outcomes, as appropriate; the quality of their statement regarding the need for the project; and evidence that the applicant understands current issues and recent developments in the field that may have relevance to the implementation of the project. Applicants must refer to the specific evaluation criteria for each priority area contained in the full Program Announcement in order to adequately prepare their applications.

Criterion 2: Approach. Applicants will be judged on the clarity, feasibility, and thoroughness of their description of the approach that they intend to use in implementing proposed projects. The approach sections will be expected to include, as appropriate, information on barriers to implementation and proposed solutions to those barriers; necessary collaborations with other organizations and agencies and their respective roles; evaluation plans; reporting requirements; and staffing plans. Applicants must refer to the specific evaluation criteria for each priority area contained in the full Program Announcement in order to adequately prepare their applications.

Criterion 3: Organizational Profiles. Applicants will be judged on the experience and demonstrated competence of staff who are proposed to implement the project and, as appropriate, the experience of the organization in implementing related projects. Applicants must refer to the specific evaluation criteria for each priority area contained in the full Program Announcement in order to adequately prepare their applications.

Criterion 4: Budget and Budget Justification. Applicants will be judged on the adequacy, reasonableness, and completeness of their budget requests to support their proposed projects, including their management plans to control and account for expenditure of project funds. Applicants must refer to the specific evaluation criteria for each priority area contained in the full Program Announcement in order to adequately prepare their applications.

The Paperwork Reduction Act of 1995 (Public Law)

Public reporting burden for this collection of information is estimated to average 40 hours per response, including the time for reviewing instructions, gathering and maintaining the data needed and reviewing the collection information. The project description is approved under OMB control number 0970-0139 which expires 12/31/2003.

An agency may not conduct or sponsor and a person is not required to respond to, collections of information unless it displays a currently valid OMB control number.

Required Notification of the Single Point of Contact

Most portions of this program are covered under Executive Order 12372, Intergovernmental Review of Federal Programs, and 45 CFR part 100, Intergovernmental Review of Department of Health and Human Services Program and Activities. Under the Order, States may design their own processes for reviewing and commenting on proposed Federal assistance under covered programs.

All States and Territories except Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington, and Wyoming have elected to participate in the Executive Order process and have established Single Points of Contact (SPOCs). Applicants from these jurisdictions need take no action regarding E.O. 12372. Applicants for projects to be administered by Federally-recognized Indian Tribes are also exempt from the requirements of E.O. 12372. Applicants to the Adoption Opportunities program are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations which may trigger the accommodate or explain rule. A list of the Single Points of Contact for each State and Territory can be found online at http://www.whitehouse.gov/omb/grants/spoc.html.

Dated: May 27, 2003.
Frank Fuentes,
Deputy Commissioner, Administration on Children, Youth and Families.

[FR Doc. 03-14486 Filed 6-9-03; 8:45 am]

BILLING CODE 4184-01-P